DEPARTMENT OF TRANSPORTATION

Federal Aviation Administration

14 CFR Part 71

[Docket No. FAA-2019-0786; Airspace Docket No. 18-AWP-1]

RIN 2120-AA66

Proposed Amendment of Class E Airspace and Establishment of Class E Airspace Extension; Battle Mountain, NV

AGENCY: Federal Aviation Administration (FAA), DOT.

ACTION: Notice of proposed rulemaking (NPRM).

SUMMARY: This action proposes to modify the Class E surface area, Class E airspace extending upward from 700 feet above the surface and create Class E airspace as an extension to the Class E surface area at Battle Mountain Airport, Battle Mountain, NV. After establishment of a new area navigation (RNAV) procedure and review of the airspace, the FAA found it necessary to amend the existing airspace and establish new controlled airspace for the safety and management of Instrument Flight Rules (IFR) operations at this airport. This action would also remove a reference to the Battle Mountain VORTAC from the legal description for the Class E airspace extending upward from 700 feet.

DATES: Comments must be received on or before January 13, 2020.

ADDRESSES: Send comments on this proposal to the U.S. Department of Transportation, Docket Operations, 1200 New Jersey Avenue SE, West Building Ground Floor, Room W12-140, Washington, DC 20590; telephone: (800) 647-5527, or (202) 366-9826. You must identify FAA Docket No. FAA-2019-0786; Airspace Docket No. 18-AWP-1, at the beginning of your comments. You may also submit comments through the internet at https://www.regulations.gov.

FAA Order 7400.11D, Airspace Designations and Reporting Points, and subsequent amendments can be viewed online at https://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11D at NARA, email fedreg.legal@nara.gov or go to https://www.archives.gov/federal_register/cfr/ibr_locations.html.

FOR FURTHER INFORMATION CONTACT: Richard Roberts, Federal Aviation Administration, Operations Support Group, Western Service Center, 2200 S 216th Street, Des Moines, WA 98198-6547; telephone (206) 231-2245.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would modify the existing Class E airspace and establish new Class E airspace as an extension to the Class E surface area at Battle Mountain Airport, Battle Mountain, NV, in support of IFR operations at the airport.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (Docket No. FAA-2019-0786; Airspace Docket No. 18-AWP-1) and be submitted in triplicate to DOT Docket Operations (see ADDRESSES section for address and phone number). You may also submit comments through the internet at https://www.regulations.gov.

Persons wishing the FAA to acknowledge receipt of their comments on this notice must submit with those comments a self-addressed, stamped postcard on which the following statement is made: “Comments to Docket No. FAA-2019-0786; Airspace Docket No. 18-AWP-1.” The postcard will be date/time stamped and returned to the commenter.

All communications received on or before the specified closing date for comments will be considered before taking action on the proposed rule. The proposal contained in this notice may be changed in light of the comments received. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received, and any final disposition in person in the Dockets Office (see the ADDRESSES section for the address and phone number) between 9:00 a.m. and 5:00 p.m., Monday through Friday, except federal holidays. An informal docket may also be examined between 8:00 a.m. and 4:30 p.m., Monday through Friday, except federal holidays, at the Northwest Mountain Regional Office of the Federal Aviation Administration, Air Traffic Organization, Western Service Center, Operations Support Group, 2200 S 216th St., Des Moines, WA 98198-6547.

Availability and Summary of Documents for Incorporation by Reference

This document proposes to amend FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Proposal

The FAA is proposing an amendment to Title 14 Code of Federal Regulations (14 CFR) part 71 by modifying the Class E airspace at Battle Mountain Airport, Battle Mountain, NV. The Class E surface area would be adjusted to within 4.2 miles of the airport and the surface area that extends 1 mile both sides of the 218° bearing from the 4.2 mile radius to 7.4 miles southwest of the airport eliminated. A Class E extension to the surface area would be established within 1.3 miles both sides of the 228° bearing, which will provide the required width and alignment for an extension to protect the VOR approach to runway 4 as aircraft descend through 1000 feet AGL. The Class E airspace extending upward from 700 feet AGL would be modified by establishing airspace 2 miles on both sides of the 48° bearing from the airport to 11 miles northeast, to contain a new RNAV approach to runway 22. To the west, the airspace extending upward from 700 feet AGL would be expanded from the current 4.2 mile radius to 7 miles from the airport, between the 265° bearing clockwise to the 32° bearing, to protect departures until they reach 1200 feet AGL. This action would also modify the lateral boundaries of the Class E airspace extending upward from 700 feet AGL to the southwest to within 16.5 mile radius of the airport from the 204° bearing clockwise to the 266° bearing to protect the VOR Approach to runway 4 as aircraft descend through 1500 feet. It would also eliminate the Battle Mountain VORTAC as a reference point in the legal description as it is no longer required. This airspace would support IFR operations at Battle Mountain Airport, Battle Mountain, NV.

Class E airspace designations are published in paragraph 6002, 6004 and 6005 of FAA Order 7400.11D, dated August 8, 2019 and effective September 15, 2019, which is incorporated by reference in 14 CFR 71.1. The Class E airspace designation listed in this document will be published subsequently in the Order. FAA Order 7400.11, Airspace Designations and Reporting Points, is published yearly and effective on September 15.

Regulatory Notices and Analyses

The FAA has determined that this proposed regulation only involves an established body of technical regulations for which frequent and routine amendments are necessary to keep them operationally current, is non-controversial, and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Given this is a routine matter that will only affect air traffic procedures and air navigation, it is certified that this proposed rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019, and effective September 15, 2019, is amended as follows:

Paragraph 6002 Class E Airspace Designated as Surface Areas.

* * * * *

AWP NV E2 Battle Mountain, NV [Amended]

Battle Mountain Airport, NV

(Lat. 40°35′57″ N, long. 116°52′28″ W)

That airspace extending upward from the surface to and including 2500 feet MSL within a 4.2-mile radius of Battle Mountain Airport, Battle Mountain, NV. This Class E airspace area is effective during the specific dates and times established in advance by a Notice to Airmen. The effective date and time will thereafter be continuously published in the Chart Supplement.

Paragraph 6004 Class E Airspace Areas Designated as an Extension to a Class D or Class E Surface Area.

* * * * *

AWP NV E4 Battle Mountain, NV [NEW]

Battle Mountain Airport, NV

(Lat. 40°35′57″ N, long. 116°52′28″ W)

That airspace extending upward from the surface within 1.3 miles each side of the 228° bearing from the Battle Mountain Airport extending from the 4.2 mile radius to 7 miles southwest of Battle Mountain Airport, Battle Mountain NV.

Paragraph 6005 Class E Airspace Areas Extending Upward From 700 Feet or More Above the Surface of the Earth.

* * * * *

AWP NV E5 Battle Mountain, NV [Amended]

Battle Mountain Airport, NV

(Lat. 40°35′57″ N, long. 116°52′28″ W)

That airspace extending upward from 700 feet above the surface within 16.5-mile radius of the Battle Mountain Airport beginning at the point where the 205° bearing intersects the 16.5-mile radius thence clockwise to the point where the 266° bearing intersects the 16.5-mile radius thence northeast along the 266° bearing to within 7 miles of the airport, thence clockwise along the 7-mile radius to the point where the 65° bearing intersects the 7-mile radius thence to the point where the 77° bearing intersects the 4.2-mile radius thence clockwise to the point where the 158° bearing intersects the 4.2 mile radius, thence to the point of beginning; and that airspace within 2 miles each side of the 49° bearing extending from the 4.2 mile radius to 10.5 miles from the airport.

Issued in Seattle, Washington, on November 19, 2019.
Byron Chew,
Manager, Operations Support Group, Western Service Center.

[FR Doc. 2019-25542 Filed 11-27-19; 8:45 am]

BILLING CODE 4910-13-P